FEDERAL RESERVE SYSTEM

Government in the Sunshine; Meeting Notice

Agency Holding the Meeting: Board of Governors of the Federal Reserve System.

Federal Register Citation of Previous Announcement: FR 75,5322 dated February 2, 2010.

Previously Announced Time and Date of the Meeting: 11:30 a.m., Monday, February 8, 2010.

Changes in the Meeting: Due to the closure of the Federal government the closed meeting was canceled.

For more information please contact: Michelle Smith, Director, or Dave Skidmore, Assistant to the Board, Office of Board Members at 202-452-2955.

SUPPLEMENTARY INFORMATION: You may call 202-452-3206 for a recorded announcement of the meeting; or you may contact the Board's Web site at http://www.federalreserve.gov for an electronic announcement. (The Web site also includes procedural and other information about the meeting.)

Dated: February 12, 2010.
Jennifer J. Johnson,
Secretary of the Board.

[FR Doc. 2010-3132 Filed 2-16-10; 11:15 am]

BILLING CODE 6210-01-P